DEPARTMENT OF DEFENSE

GENERAL SERVICES ADMINISTRATION

NATIONAL AERONAUTICS AND SPACE ADMINISTRATION

48 CFR Parts 2, 4, 12, 39, and 52

[FAR Case 2008-019; Docket 2009-0018; Sequence 2]

RIN 9000-AL11

Federal Acquisition Regulation; FAR Case 2008-019, Authentic Information Technology Products

AGENCIES: Department of Defense (DoD), General Services Administration (GSA), and National Aeronautics and Space Administration (NASA).

ACTION: Advanced Notice of Proposed Rulemaking; notice of public meeting.

SUMMARY: The Civilian Agency Acquisition Council and the Defense Acquisition Regulations Council (the Councils) are hosting a public meeting to continue a dialogue with industry and Government agencies about ways to develop greater assurance around information technology (IT) products acquired by the Government. The public meeting will include dialogues on the impact of counterfeit IT products on matters of performance and security; contractor liability and consequential damages; the competition aspects of procuring IT products from the original manufacturer or authorized distributors; viable means of representing authenticity of IT products; and contractor supply chain risk management requirements as an evaluation factor in the procurement of IT products.

DATES: August 13, 2009, 9 a.m. to 2 p.m. EST.

ADDRESSES: See Supplementary Information section for public meeting address.

FOR FURTHER INFORMATION CONTACT: Mr. Ernest Woodson, Procurement Analyst, at (202) 501-3775 for clarification of content. For information pertaining to status or publication schedules, contact the Regulatory Secretariat at (202) 501-4755. Please cite FAR case 2008-019.

SUPPLEMENTARY INFORMATION:

A. Public Meeting Address

The meeting will be held at the General Services Administration (GSA), 1800 F Street, NW, Washington, DC 20405. The meeting will be held in the GSA Auditorium.

Interested parties are encouraged to arrive at least 30 minutes early to accommodate security procedures.

If you wish to make a presentation on any of the topics, please contact and submit a copy of your presentation prior to the meeting, to the General Services Administration, Contract Policy Division (VPC), 1800 F Street, NW, Room 4040, Attn: Ernest Woodson, Washington, DC 20405. Telephone: 202-501-3775.

Submit electronic materials via e-mail to ernest.woodson@gsa.gov. Please submit presentations only and cite Public Meeting IT Products Continued Dialogue in all correspondence related to the public meeting. The submitted presentations will be the only record of the public meeting.

Call-in Information: Parties interested in participating by phone may dial (877) 924-8049, passcode 5363978. Interested parties calling in will not be allowed to present or participate in the question and answer session during a public meeting. Phone lines have been reserved for the first 100 callers.

Special Accommodations: The public meeting is physically accessible to people with disabilities. Request for sign language interpretation or other auxiliary aids should be directed to Ernest Woodson, at 202-501-3775, at least 2-working days prior to the meeting date.

B. Background

On December 11, 2008, the Councils conducted a public meeting (see Federal Register notice at 73 FR 68373-68375 on November 18, 2008) to seek comments from both Government and industry, on among other things, whether the Federal Acquisition Regulation (FAR) should be revised to include a requirement that contractors selling IT products (including computer hardware and software) represent that such products are authentic. The Councils were interested in comments regarding contractor liability if IT products sold to the Government by contractor are not authentic, and whether contractors who are resellers or distributors of computer hardware and software should represent to the Government that they are authorized by the original equipment manufacturer (OEM) to sell IT products to the Government. The comment period closed January 20, 2009.

While comments received will be considered in the preparation of a proposed rule, the public meeting contemplated by this notice and those conducted June 23, July 15 and 22, 2009 (see Federal Register notice at 74 FR 26646-26647 on June 3, 2009), will continue a dialogue with industry and Government agencies on the impact of counterfeit IT products on matters of performance and security; contractor liability and consequential damages; the competition aspects of procuring IT products from the original or authorized distributors; viable means of representing authenticity of IT products; and contractor supply chain risk management requirements as an evaluation factor in the procurement of IT products.

The public meeting is intended to provide for an exchange of information and ideas that may be used to assist in developing greater assurance around information technology products acquired by the Government. While the focus of this notice is IT products, public meeting comments/presentations are invited on (1) whether the measures proposed herein should be expanded to include other items sold to the Government, such as Electrical, Electronic, and Electromechanical parts; (2) whether the rule should apply when IT is a component of a system or assembled product; and (3) whether vendors, distributors, and manufacturers of IT products and other items sold to the Government should be prequalified based on specific standards of testing, quality, traceability, integrity, and etc., before they are allowed to sell to the Government.

The Councils are particularly interested in hearing how industry participants can maintain the integrity of the supply chain while providing Government customers with a variety of cost effective and reliable sources. Previous meetings initiated discussion of how various trade associations and other representative groups could propose to police member organizations or provide some auditable certification or declaration program that provides Government customers with uniform, reasonable assurance that purchased products and subcomponents are not counterfeit.

List of Subjects in 48 CFR Parts 2, 4, 12, 39, and 52

Government procurement.

Date: August 5, 2009.
Al Matera,
Director, Office of Acquisition Policy.

[FR Doc. E9-19171 Filed 8-10-09; 8:45 am]

BILLING CODE 6820-EP-S